DEPARTMENT OF THE TREASURY

Office of Foreign Assets Control

Supplemental Identification Information for One Individual Designated Pursuant to Executive Order 13224

AGENCY: Office of Foreign Assets Control, Treasury.

ACTION: Notice.

SUMMARY: The Department of the Treasury's Office of Foreign Assets Control (“OFAC”) is publishing supplemental information for the name of one individual whose property and interests in property are blocked pursuant to Executive Order 13224 of September 23, 2001, “Blocking Property and Prohibiting Transactions With Persons Who Commit, Threaten To Commit, or Support Terrorism.”

DATES: OFAC's actions described in this notice are effective on June 21, 2017.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic Availability

The SDN List and additional information concerning OFAC sanctions programs are available from OFAC's Web site (www.treas.gov/ofac).

Notice of OFAC Actions

On June 21, 2017, OFAC supplemented the identification information for one individual whose property and interests in property are blocked pursuant to Executive Order 13224, “Blocking Property and Prohibiting Transactions With Persons Who Commit, Threaten To Commit, or Support Terrorism”.

The supplementation identification information is as follows:

Individual

1. BOULGHITI, Boubekeur (a.k.a. BOULGHIT, Boubakeur; a.k.a. “AL DJAZAIRI, Abou Bakr”; a.k.a. “AL-JAZARI, Yasir”; a.k.a. “AL-JAZIRI, Abou Yasser”; a.k.a. “AL-JAZIRI, Abu Bakr”; a.k.a. “EL DJAZAIRI, Abou Yasser”), Peshawar, Pakistan; DOB 13 Feb 1970; POB Rouiba, Algiers, Algeria; nationality Algeria; Gender Male (individual) [SDGT].

Dated: June 21, 2017.
Andrea Gacki,
Acting Director, Office of Foreign Assets Control.

[FR Doc. 2017-13278 Filed 6-23-17; 8:45 am]

BILLING CODE 4810-AL-P